DEPARTMENT OF ENERGY

Federal Energy Regulatory Commission

[Docket No. IC13-10-000]

Commission Information Collection Activities (FERC Form 6-Q); Comment Request

AGENCY: Federal Energy Regulatory Commission, DOE.

ACTION: Comment request.

SUMMARY: In compliance with the requirements of the Paperwork Reduction Act of 1995, 44 U.S.C. 3507(a)(1)(D), the Federal Energy Regulatory Commission (Commission or FERC) is submitting the information collection FERC Form 6-Q (Quarterly Financial Report of Oil Pipeline Companies) to the Office of Management and Budget (OMB) for review of the information collection requirements. Any interested person may file comments directly with OMB and should address a copy of those comments to the Commission as explained below. The Commission issued a Notice in the Federal Register (78 FR 8500, 2/6/2013) requesting public comments. FERC received no comments on the FERC Form 6-Q and is making this notation in its submittal to OMB.

DATES: Comments on the collection of information are due by May 24, 2013.

ADDRESSES: Comments filed with OMB, identified by the OMB Control No. 1902-0206, should be sent via email to the Office of Information and Regulatory Affairs: oira_submission@omb.gov. Attention: Federal Energy Regulatory Commission Desk Officer. The Desk Officer may also be reached via telephone at 202-395-4718.

A copy of the comments should also be sent to the Federal Energy Regulatory Commission, identified by the Docket No. IC13-10-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION: Title: FERC Form 6-Q, Quarterly Financial Report of Oil Pipeline Companies.

OMB Control No.:1902-0206.

Type of Request: Three-year extension of the FERC Form 6-Q information collection requirements with no changes to the reporting requirements.

Abstract: Under the Interstate Commerce Act (ICA) ¹, the Commission is authorized and empowered to make investigations and to collect and record data to the extent FERC may consider to be necessary or useful for the purpose of carrying out the provisions of the ICA. FERC must ensure just and reasonable rates for transportation of crude oil and petroleum products by pipelines in interstate commerce.

¹ 49 U.S.C. Part 1, Section 20, 54 Stat. 916.

The Commission uses the information collected by FERC Form 6-Q to carry out its responsibilities in implementing the statutory provisions of the ICA to include the authority to prescribe rules and regulations concerning accounts, records, and memoranda, as necessary or appropriate. Financial accounting and reporting provides necessary information concerning a company's past performance and its future prospects. Without reliable financial statements prepared in accordance with the Commission's Uniform System of Accounts and related regulations, the Commission would be unable to accurately determine the costs that relate to a particular time period, service, or line of business.

The Commission uses data from the FERC Form 6-Q to assist in:

1. Implementation of its financial audits and programs,

2. continuous review of the financial condition of regulated companies,

3. assessment of energy markets,

4. rate proceedings and economic analyses, and

5. research for use in litigation.

Financial information reported on the quarterly FERC Form 6-Q provides FERC, as well as customers, investors and others, an important tool to help identify emerging trends and issues affecting jurisdictional entities within the energy industry. It also provides timely disclosures of the impacts that new accounting standards, or changes in existing standards, have on jurisdictional entities, as well as the economic effects of significant transactions, events, and circumstances. The reporting of this information by jurisdictional entities assists the Commission in its analysis of profitability, efficiency, risk, and in its overall monitoring.

Type of Respondents: Oil Pipelines.

Estimate of Annual Burden ² The Commission estimates the total Public Reporting Burden for this information collection as:

² Burden is defined as the total time, effort, or financial resources expended by persons to generate, maintain, retain, or disclose or provide information to or for a Federal agency. For further explanation of what is included in the information collection burden, reference 5 Code of Federal Regulations 1320.3.

FERC Form 6-Q—Quarterly Financial Report of Oil Pipeline Companies
Number of respondents | Number of responses per respondent | Total number of responses | Average burden hours per response | Estimated total annual burden
(A) | (B) | (A) × (B) = (C) | (D) | (C) × (D)
155 | 3 | 465 | 150 | 69,750

The total estimated annual cost burden to respondents is $4,882,500 [69,750 hours * $70/hour ³ = $4,882,500].

³ FY2013 Estimated Average Hourly Cost per FERC FTE, including salary + benefits.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: April 17, 2013.
Kimberly D. Bose,
Secretary.

[FR Doc. 2013-09614 Filed 4-23-13; 8:45 am]

BILLING CODE 6717-01-P